DEPARTMENT OF THE INTERIOR

National Park Service

[NPS-WASO-NAGPRA-NPS0040439; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) has completed an inventory of human remains and associated funerary objects and has determined that there is a cultural affiliation between the human remains and associated funerary objects and Indian Tribes or Native Hawaiian organizations in this notice.

DATES: Repatriation of the human remains and associated funerary objects in this notice may occur on or after July 28, 2025.

ADDRESSES: Send written requests for repatriation of the human remains and associated funerary objects in this notice to Celise Chilcote-Fricker, William S. Webb Museum of Anthropology, University of Kentucky, 1020 Export Street, Lexington, KY 40504, email celise.fricker@uky.edu.

SUPPLEMENTARY INFORMATION: This notice is published as part of the National Park Service's administrative responsibilities under NAGPRA. The determinations in this notice are the sole responsibility of the WSWM, and additional information on the determinations in this notice, including the results of consultation, can be found in the inventory or related records. The National Park Service is not responsible for the determinations in this notice.

Abstract of Information Available

Based on the information available, human remains representing, at least, 490 individuals have been reasonably identified. The 1,174 associated funerary objects are two atlatl points, three bone beads, 46 bone awls, one bone fish hook, one bone pendant, three bone tubes, three bone whistles, three dog burials, one etched bone tool, two bone projectile points, three faunal tooth pendants, one bone flaker, three modified antlers, one modified bone, three modified pieces of turtle carapace, seven lithic projectile points, eight lithic projectile points/knives, two lithic knives, six pestles, six scrapers, two sub-rectangular bars, five cannel coal beads, three tubular lithic beads, one red sandstone barrel bead, one copper needle, one copper pin, one copper sheet fragment, 206 shell disc beads, one shell gorget, 12 shell pendants, 474 shell snail beads, 11 shell tubular beads, 179 lots faunal, 10 lots ceramic, four lots charcoal, 118 lots lithic, and 40 lots shell. Site 15McL04, the Barrett site, was excavated from November 1938 to July 1939 by University of Kentucky archaeologists under contract to the Works Progress Administration (WPA). No known hazardous substances are present.

Based on the information available, human remains representing, at least, one individual has been reasonably identified. The two associated funerary objects are one ceramic human effigy head and one lot ceramic. Site 15McL13, the Yankee site, was excavated by University of Kentucky Museum of Anthropology staff under contract to the WPA in September 1938. No known hazardous substances are present.

Based on the information available, human remains representing, at least, one individual has been reasonably identified. The four associated funerary objects are two lithic projectile points, one lithic drill and one lot faunal. Site 15McL14, the Seton site, underwent a limited test excavation by University of Kentucky Museum of Anthropology staff under contract to the WPA in 1938. No known hazardous substances are present.

Cultural Affiliation

Based on the information available and the results of consultation, cultural affiliation is reasonably identified by the geographical location or acquisition history of the human remains and associated funerary objects described in this notice.

Determinations

The WSWM has determined that:

• The human remains described in this notice represent the physical remains of 492 individuals of Native American ancestry.

• The 1,180 objects described in this notice are reasonably believed to have been placed intentionally with or near individual human remains at the time of death or later as part of the death rite or ceremony.

• There is a reasonable connection between the human remains and associated funerary objects described in this notice and the Absentee-Shawnee Tribe of Indians of Oklahoma; Cherokee Nation; Eastern Band of Cherokee Indians; Eastern Shawnee Tribe of Oklahoma; Shawnee Tribe; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 28, 2025. If competing requests for repatriation are received, the WSWM must determine the most appropriate requestor prior to repatriation. Requests for joint repatriation of the human remains and associated funerary objects are considered a single request and not competing requests. The WSWM is responsible for sending a copy of this notice to the Indian Tribes and Native Hawaiian organizations identified in this notice.

Authority: Native American Graves Protection and Repatriation Act, 25 U.S.C. 3003, and the implementing regulations, 43 CFR 10.10.

Dated: June 17, 2025.
Melanie O'Brien,
Manager, National NAGPRA Program.

[FR Doc. 2025-11932 Filed 6-26-25; 8:45 am]

BILLING CODE 4312-52-P